ENVIRONMENTAL PROTECTION AGENCY

[EPA-HQ-OPPT-2003-0004; FRL-13042-01-OCSPP]

Access to Confidential Business Information by General Dynamics Information Technology and Its Identified Subcontractors, Comptech Computer Technology, Inc., and Gridiron IT Solutions, Inc.

AGENCY: Environmental Protection Agency (EPA).

ACTION: Notice.

SUMMARY: EPA has authorized its contractor and subcontractors, General Dynamic Information Technology (GDIT) of Falls Church VA, Comptech Technology of Dayton Ohio, and Gridiron IT Solutions Inc. of Reston VA, to access information which has been submitted to EPA under all sections of the Toxic Substances Control Act (TSCA). Some of the information may be claimed or determined to be Confidential Business Information (CBI).

DATES: Access to the confidential data will occur no sooner than December 2, 2025.

FOR FURTHER INFORMATION CONTACT: For technical information contact: Norman Adkins, OCSPP-OMCO-ITSD-DMB, Environmental Protection Agency, 109 T.W. Alexander Drive RTP, NC 27711; telephone number: (919) 541-0479; email address: adkins.norman@epa.gov.

For general information contact: email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

II. What action is the Agency taking?

Under EPA contract number 68HERD24A0001, contractor and subcontractors General Dynamics Information Technology Inc. of 3150 Fairview Park Drive, Suite 100, Falls Church, VA 22042, COMPTECH Computer Technologies Inc. of 8534 Yankee Street, Suite 1C, Dayton, OH 45458, and Gridiron IT Solutions Inc. of 11180 Sunrise Valley Dr., Suite 210, Reston, VA 20191, will assist the Office of Pollution Prevention and Toxics (OPPT) in the integration of previously owned Office of Research and Development (ORD) scientific applications, data, models, and systems within the CBI environments to enhance decision making capabilities. This is necessary to improve existing tools and integrate new tools that are only accessible through computer access to the TSCA CBI.

Contractors working on this project will be required to have full access to the entire IT system that houses TSCA CBI data and materials. This level of access is required for data movement and migration. (OCSPP), focusing on enhancing decision making capabilities in support of TSCA. The scope includes integrating the current CBI environment with enhanced ORD tools and models for process improvement and decision making. The initiative aims to streamline TSCA decision making through improvement in existing tools and integrating new capabilities.

In accordance with 40 CFR 2.306(j), EPA has determined that under EPA contract number 68HERD24A0001, GDIT, CompTech Computer Technologies, and Gridiron IT Solutions will require access to CBI submitted to EPA under all section(s) of TSCA to perform successfully the duties specified under the contract. GDIT, CompTech Computer technology, and Gridiron IT Solutions personnel will be given access to information submitted to EPA under all section(s) of TSCA. Some of the information may be claimed or determined to be CBI.

EPA is issuing this notice to inform all submitters of information under all sections of TSCA that EPA may provide GDIT, CompTech Computer Technologies, and Gridiron IT Solutions access to these CBI materials on a need-to-know basis only. All access to TSCA CBI under this contract will take place at EPA Headquarters and GDIT site located at 3150 Fairview Park Dr., Suite 100, Falls Church, VA 22042, in accordance with EPA's TSCA CBI Protection Manual.

Access to TSCA data, including CBI, will continue until February 27, 2027. If the contract is extended, this access will also continue for the duration of the extended contract without further notice.

GDIT, CompTech Computer Technologies, and Gridiron IT Solutions personnel will be required to sign nondisclosure agreements and will be briefed on appropriate security procedures before they are permitted access to TSCA CBI.

Authority: 15 U.S.C. 2601 et seq.

Dated: November 20, 2025.
Nancy B. Beck,
Principal Deputy Assistant Administrator, Office of Chemical Safety and Pollution Prevention.

[FR Doc. 2025-20934 Filed 11-24-25; 8:45 am]

BILLING CODE 6560-50-P